DEPARTMENT OF COMMERCE

National Oceanic and Atmospheric Administration

RIN 0648-XG371

Marine Mammals; File No. 22095

AGENCY: National Marine Fisheries Service (NMFS), National Oceanic and Atmospheric Administration (NOAA), Commerce.

ACTION: Notice; receipt of application.

SUMMARY: Notice is hereby given that SeaWorld, LLC., 9205 Southpark Center Loop, Suite 400, Orlando, FL 32819 (Responsible Party: Christopher Dold, DVM), has applied in due form for a scientific research and enhancement permit for one non-releasable beluga whale (Delphinapterus leucas) from the Cook Inlet distinct population segment (DPS).

DATES: Written, telefaxed, or email comments must be received on or before November 29, 2018.

ADDRESSES: The application and related documents are available for review by selecting “Records Open for Public Comment” from the “Features” box on the Applications and Permits for Protected Species (APPS) home page, https://apps.nmfs.noaa.gov, and then selecting File No. 22095 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 22095 in the subject line of the email comment.

Those individuals requesting a public hearing should submit a written request to the Chief, Permits and Conservation Division at the address listed above. The request should set forth the specific reasons why a hearing on this application would be appropriate.

FOR FURTHER INFORMATION CONTACT: Amy Sloan, Jennifer Skidmore, or Courtney Smith, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research on and provide long-term care for one male beluga whale calf from the Cook Inlet DPS. The calf stranded alone as a neonate when he was less than a month old, and was rescued and rehabilitated by the Alaska marine mammal stranding network under the authority of the NMFS Marine Mammal Health and Stranding Response Program's (MMHSRP) scientific research and enhancement permit. Based on his young age, health conditions, and need for socialization with other beluga whales, NMFS determined him to be non-releasable and unable to survive in the wild, and chose SeaWorld of Texas to accept Tyonek into their beluga population, which was best suited for his needs. NMFS followed the standard placement process for non-releasable marine mammals as outlined in the NMFS Placement Process for Non-releasable Marine Mammals, No. 02-308-02, which is available at: http://www.nmfs.noaa.gov/op/pds/documents/02/308/02-308-02.pdf. The calf is currently held at SeaWorld of Texas under the authority of the MMHSRP permit (No. 18786-03). SeaWorld is now applying for their own scientific research and enhancement permit for the long-term care of this non-releasable animal and to conduct research to benefit the endangered wild population of Cook Inlet beluga whales.

SeaWorld's proposed research activities for this beluga whale include investigations of vocalizations (passive recordings) and hearing development (auditory evoked potential measurements). The proposed enhancement would include educational presentations on topics including the endangered status and current threats to the Cook Inlet DPS; continued daily husbandry care (feeding, training, and monitoring growth (measurements, weight, ultrasound)); veterinary care (exams and biological sampling including but not limited to blood, exhalate, swabs, urine, feces; and treatments as warranted); and behavioral observations and enrichment. This animal would be placed on public display incidental to the proposed activities but would not be used in interactive programs with the public or trained for performance. Presentations to educate the public may include demonstrations of trained husbandry and enrichment behaviors as well as natural behaviors. The permit is requested for a 5-year period, the maximum duration of a permit.

In compliance with the National Environmental Policy Act of 1969 (42 U.S.C. 4321 et seq.), an initial determination has been made that the activity proposed is categorically excluded from the requirement to prepare an environmental assessment or environmental impact statement.

NMFS has forwarded the application to the Marine Mammal Commission and its Committee of Scientific Advisors.

Dated: October 24, 2018.
Julia M. Harrison,
Chief, Permits and Conservation Division, Office of Protected Resources, National Marine Fisheries Service.

[FR Doc. 2018-23652 Filed 10-29-18; 8:45 am]

BILLING CODE 3510-22-P